FEDERAL COMMUNICATIONS COMMISSION

47 CFR Part 90

[WP Docket No. 15-32; FCC 15-17]

Creation of Interstitial 12.5 kHz Channels in the 800 MHz Band Between 809-817/854-862 MHz

AGENCY: Federal Communications Commission.

ACTION: Proposed rule.

SUMMARY: This document seeks comment on proposals to amend the Commission's rules to promote spectrum efficiency and flexibility in 800 MHz Mid-Band (809-817 MHz/854-862 MHz). This document contains proposed new or modified information collection requirements. By this action, the Commission affords interested parties an opportunity to submit comments on these proposed rule changes and proposed new or modified information collections.

DATES: Comments are due on or before May 11, 2015 and reply comments are due on or before May 26, 2015. Written Paperwork Reduction Act (PRA) comments on the proposed information collection requirements contained herein must be submitted by the public, Office of Management and Budget (OMB), and other interested parties on or before May 26, 2015.

ADDRESSES: You may submit comments, identified by WP Docket No. 15-32, by any of the following methods:

• Federal Communications Commission's Web site: http://fjallfoss.fcc.gov/ecfs2/. Follow the instructions for submitting comments.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document. In addition to filing comments with the Secretary, a copy of any PRA comments on the proposed collection requirements contained herein should be submitted to the Federal Communications Commission via email to PRA@fcc.gov and to Nicholas A. Fraser, Office of Management and Budget, via email to nfraser@omb.eop.gov or via fax at 202-395-5167.

FOR FURTHER INFORMATION CONTACT: For further information, contact John Evanoff, Esq., of the Public Safety and Homeland Security Bureau, Policy and Licensing Division, at (202) 418-0848, or by email to john.evanoff@fcc.gov or Rodney Conway, Wireless Telecommunications Bureau, Mobility Division, at (202) 418-2904, or by email to rodney.conway@fcc.gov. For additional information concerning the information collection requirements contained in this document, send an email to PRA@fcc.gov or contact Benish Shah, Office of Managing Director, Performance Evaluation and Records Management, 202-418-7866, or by email to benish.shah@fcc.gov. To view or obtain a copy of this information collection request (ICR) submitted to OMB: (1) Go to this OMB/GSA Web page: http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the OMB control number of this ICR as shown in the Supplementary Information section below (or its title if there is no OMB control number) and then click on the ICR Reference Number. A copy of the FCC submission to OMB will be displayed.

SUPPLEMENTARY INFORMATION: This is a summary of the Commission's Notice of Proposed Rulemaking, FCC 15-17, released on February 9, 2015. The document is available for download at http://fjallfoss.fcc.gov/edocs-public/. The complete text of this document is also available for inspection and copying during normal business hours in the FCC Reference Information Center, Portals II, 445 12th Street SW., Room CY-A257, Washington, DC 20554. To request materials in accessible formats for people with disabilities (Braille, large print, electronic files, audio format), send an email to FCC504@fcc.gov or call the Consumer & Governmental Affairs Bureau at 202-418-0530 (voice), 202-418-0432 (TTY).

In the Notice of Proposed Rulemaking (NPRM) in WP Docket No. 15-32, the Commission initiates a new proceeding to seek comment on proposals to amend the Commission's rules governing 800 MHz Mid-Band operations (809-817 MHz/854-862 MHz). The Commission seeks comment on whether to create new, full-power 12.5 kilohertz interstitial channels in the 800 MHz Mid-Band. The Commission also seeks comment on appropriate interference protection criteria for interstitial channels, including a proposal from the Land Mobile Communications Council (LMCC) to amend the rules to adopt new “Interstitial 800 MHz Coordination Procedures.” Finally, the Commission seeks comment on a number of licensing and eligibility issues, including whether to provide T-Band public safety incumbents priority access to new interstitial channels, as well as technical issues related to authorized bandwidth and emission mask requirements for new interstitial channels.

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington, DC 20554.

People with Disabilities: To request materials in accessible formats for people with disabilities (braille, large print, electronic files, audio format), send an email to fcc504@fcc.gov or call the Consumer & Governmental Affairs Bureau at 202-418-0530 (voice), 202-418-0432 (tty). Commenters who file information that they believe should be withheld from public inspection may request confidential treatment pursuant to § 0.459 of the Commission's rules. Commenters should file both their original comments for which they request confidentiality and redacted comments, along with their request for confidential treatment. Commenters should not file proprietary information electronically. See Examination of Current Policy Concerning the Treatment of Confidential Information Submitted to the Commission, Report and Order, 13 FCC Rcd 24816 (1998), Order on Reconsideration, 14 FCC Rcd 20128 (1999). Even if the Commission grants confidential treatment, information that does not fall within a specific exemption pursuant to the Freedom of Information Act (FOIA) must be publicly disclosed pursuant to an appropriate request. See 47 CFR 0.461; 5 U.S.C. 552. We note that the Commission may grant requests for confidential treatment either conditionally or unconditionally. As such, we note that the Commission has the discretion to release information on public interest grounds that does fall within the scope of a FOIA exemption.

This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with Section 1.1206(b). In proceedings governed by Section 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

This document contains proposed information collection requirements. As part of its continuing effort to reduce paperwork burden and as required by the Paperwork Reduction Act (PRA) of 1995 (44 U.S.C. 3501-3520), the Federal Communications Commission invites the general public and other Federal agencies to comment on the following information collection(s). Public and agency comments are due May 26, 2015.

Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law 107-198, see 44 U.S.C. 3506(c)(4), we seek specific comment on how we might “further reduce the information collection burden for small business concerns with fewer than 25 employees.”

OMB Control Number: 3060-0798.

Title: FCC Application for Radio Service Authorization Wireless Telecommunications Bureau; Public Safety and Homeland Security Bureau.

Form No.: FCC Form 601.

Respondents: Individuals and households; Business or other for-profit; not-for-profit institutions; and state, local or tribal government.

Number of Respondents and Responses: 253,320 respondents and 253,320 responses.

Estimated Time per Response: 0.5-1.25 hours.

Frequency of Response: On occasion reporting requirement, recordkeeping requirement, every ten year reporting requirement and third party disclosure requirement.

Obligation to Respond: Required to obtain or retain benefits. The statutory authority for this collection of information is contained in 47 U.S.C. 151, 152, 154, 154(i), 155(c), 157, 201, 202, 208, 214, 301, 302a, 303, 307, 308, 309, 310, 311, 314, 316, 319, 324, 331, 332, 333, 336, 534, 535 and 554.

Total Annual Burden: 221,955 hours.

Total Annual Cost: $71,306,250.

Privacy Act Impact Assessment: Yes.

Nature and Extent of Confidentiality: In general there is no need for confidentiality with this collection of information.

Needs and Uses: FCC Form 601 is a consolidated, multi-part application form that is used for market-based and site-based licensing for wireless telecommunications services, including public safety licenses, which are filed through the Commission's Universal Licensing System (ULS). FCC Form 601 is composed of a main form that contains administrative information and a series of schedules used for filing technical and other information. This form is used to apply for a new license, to amend or withdraw a pending application, to modify or renew an existing license, cancel a license, request a duplicate license, submit required notifications, request an extension of time to satisfy construction requirements, or request an administrative update to an existing license (such as mailing address change), request a Special Temporary Authority or Developmental License. Respondents are encouraged to submit FCC Form 601 electronically and are required to do so when submitting FCC Form 601 to apply for an authorization for which the applicant was the winning bidder in a spectrum auction.

The data collected on FCC Form 601 includes the FCC Registration Number (FRN), which serves as a “common link” for all filings an entity has with the FCC. The Debt Collection Improvement Act of 1996 requires entities filing with the Commission use an FRN. This document seeks comment on proposals to amend the Commission's rules to promote spectrum efficiency and flexibility in 800 MHz Mid-Band (809-817 MHz/854-862 MHz). To accommodate these proposed changes, the Commission seeks comment on expanding the universe of respondents.

OMB Control No.: NONE.

Title: Section 90.175 Frequency Coordinator Requirements.

Form No.: N/A.

Respondents: Business or other for-profit entities, and State, Local or Tribal Government.

Number of Respondents and Responses: 2,500 respondents; 2,500 responses.

Estimated Time per Response: 1 hour.

Frequency of Response: One time reporting requirement, and third party disclosure requirement.

Obligation to Respond: Required to obtain or retain benefits. The statutory authority for this collection is contained in 47 U.S.C. 154(i), 161, 303(g), 303(r), and 332(c)(7).

Total Annual Burden: 2,500 hours.

Annual Cost Burden: None.

Privacy Act Impact Assessment: No impact(s). Nature and Extent of Confidentiality: There is no need for confidentiality with this collection of information.

Needs and Uses: Frequency coordinators have been certified by the Commission to recommend the most appropriate frequencies for applicants in the designated Part 90 radio services. Section 90.175 requires coordinators to provide a statement recommending the most appropriate frequency. Section 90.175 of the Commission's rules require third party disclosures by applicants proposing to operate a land mobile radio station. This document seeks comment on proposals to amend the Commission's rules to promote spectrum efficiency and flexibility in 800 MHz Mid-Band (809-817 MHz/854-862 MHz). To accommodate these proposed changes, the Commission proposes to revise the frequency coordination process. This information will be used by Commission personnel in evaluating the applicant's need for such frequencies and to minimize the interference potential to other stations operating on the proposed frequencies.

OMB Control Number: NONE.

Title: Section 90.621, Selection and Assignment of Frequencies.

Form Number: N/A.

Respondents: Business or other for-profit entities; Not-for-profit institutions; and State, Local, or Tribal Government.

Number of Respondents: 20 respondents; 20 responses.

Estimated Time per Response: 1.5 hours.

Frequency of Response: On occasion reporting requirement and recordkeeping requirement.

Obligation To Respond: Required to obtain or retain benefits. Statutory authority for this information collection is contained in 47 U.S.C. Sections 154(i) and 309(j).

Total Annual Burden: 30 hours.

Total Annual Cost: $2,000.

Privacy Impact Assessment: N/A.

Needs and Uses: This document seeks comment on proposals to amend the Commission's rules to promote spectrum efficiency and flexibility in 800 MHz Mid-Band (809-817 MHz/854-862 MHz). To accommodate these proposed changes, the Commission seeks comment on adopting new interference criteria. As an alternative, the Commission seeks comment on permitting stations that do not meet the proposed interference criteria to obtain letters of concurrence from incumbent licensees and to file such letters of concurrence with the Commission when they file their FCC Form 601.

OMB Control Number: 3060-0057.

Title: Application for Equipment Authorization, FCC Form 731.

Form Number: FCC 731.

Respondents: Business or other for profit entities.

Estimated Number of Respondents: 280 (multiple responses annually).

Estimated Time per Response: 25 hours (average).

Frequency of Response: On occasion reporting requirements; Third party disclosure.

Total Annual Burden: 200,000 hours.

Total Annual Costs: $8,244,000.

Privacy Act Impact Assessment: Not Applicable.

Needs and Uses: This document seeks comment on proposals to amend the Commission's rules to promote spectrum efficiency and flexibility in 800 MHz Mid-Band (809-817 MHz/854-862 MHz). To accommodate these proposed changes, the Commission seeks comment on adopting new authorized bandwidth and emission mask specifications for equipment. If adopted, equipment manufacturers may be required to update their equipment certifications. We do not propose any substantive or material changes to the wording of this existing information collection. Instead, if we amend the emission mask and authorized bandwidth rules, which are important technical criteria, then the number of respondents subject to the existing information collections may increase.

A. Initial Regulatory Flexibility Analysis

As required by the Regulatory Flexibility Act of 1980, as amended (RFA), the Commission prepared this Initial Regulatory Flexibility Analysis (IRFA) of the possible significant economic impact on a substantial number of small entities by the policies and rules proposed in this Notice of Proposed Rulemaking (NPRM). Written public comments are requested on this IRFA. Comments must be filed by the same dates as listed on the first page of the NPRM and must have a separate and distinct heading designating them as responses to this IRFA. The Commission will send a copy of the NPRM, including this IRFA, to the Chief Counsel for Advocacy of the Small Business Administration (SBA). In addition, the NPRM and IRFA (or summaries thereof) will be published in the Federal Register.

B. Need for, and Objectives of, the Proposed Rules

The proposed changes to the 800 MHz band plan between 809-817 MHz/854-862 MHz (the 800 MHz “Mid-Band”) provide flexibility in channel spacing and bandwidth limitation governing 800 MHz Private Land Mobile Radio (PLMR) licensees. Specifically, we propose to modify the band plan to accommodate full power, interstitial 12.5 kHz “offset” channels in the 800 MHz Mid-Band, subject to certain protections designed to safeguard 800 MHz incumbents from interference. These proposed band plan changes provide licensees with the flexibility to deploy advanced PLMR technologies while also continuing to protect 800 MHz incumbents, including public safety licensees, from any potential interference. The proposed band plan changes allow 800 MHz PLMR licensees in the 809-817 MHz/854-862 MHz band to reduce the channel spacing and bandwidth limits in Section 90.209 of the Commission's rules, upon completion of 800 MHz reconfiguration. We believe these proposed band plan changes will reduce barriers to innovation and investment and allow 800 MHz PLMR licensees to deploy advanced technologies at reduced cost and to the benefit of safety of life, health, and property as well as small businesses.

The NPRM seeks comment on the following implementation proposals. First, the NPRM seeks comment on licensing the proposed interstitial channels. The NPRM notes that licensing the interstitial channels would require frequency coordination (e.g. PLMR licensees would be required to submit a license application on Form 601 demonstrating evidence of frequency coordination). The Commission also seeks comment on appropriate eligibility requirements to ensure the efficient use of the interstitial channels.

The NPRM also seeks comment on adopting an adjacent channel interference analysis, which would modify the existing frequency coordination process for the 800 MHz PLMR spectrum. Specifically, the NPRM seeks comments on adopting a contour overlap analysis, which would be different than the existing co-channel mileage separation rules (i.e. 47 CFR 90.621) used in the selection and assignment of 800 MHz PLMR channels. The NPRM seeks comment on alternatives to the contour overlap analysis, including TSB-88, and whether such alternatives are more appropriate for protecting adjacent channel incumbents.

Under the contour overlap analysis approach, the NPRM also seeks comment on whether PLMR applicants should be allowed to provide letters of concurrence indicating that the applicant and each adjacent-channel licensee agree to accept any interference resulting from the reduced adjacent channel separation between systems, an approach that would be similar to the consensual short-spacing approach (i.e. 47 CFR 90.621(e)(5)) or the concurrence approach below 512 MHz.

The NPRM seeks comment on whether or not the proposed band plan changes would require equipment manufacturers to update their equipment authorizations in order to comply with Emission Mask D and 12.5 kHz/11.25 kHz channel spacing/authorized bandwidth, important technical parameters that minimize adjacent channel interference. As a general matter, the Commission rules require that manufacturers of certain radio frequency (RF) equipment file FCC Form 731 to obtain approval prior to marketing their equipment. Manufacturers may then market their RF equipment based on a showing of compliance with technical standards established in the FCC Rules for each type of equipment or device operated under the applicable FCC Rule part.

The primary beneficiaries of the proposed band plan changes are PLMR licensees, including small governmental jurisdictions and small business entities, as well as small equipment manufacturers and small business associations that are certified to coordinate PLMR frequencies in the 800 MHz band. The FCC notes that the proposed band plan changes do not require existing PLMR licensees, equipment manufacturers or certified frequency coordinators to make any changes unless they choose to take advantage of the proposed interstitial channels to make more intensive use of the 800 MHz Mid-Band. Thus, incumbent licensees, including small businesses and small governmental jurisdictions, will not be required to modify their systems and may continue to operate on their licensed spectrum. PLMR entities seeking to apply for the proposed interstitial channels may be required to obtain frequency coordination and submit a license application on FCC Form 601 in order to license, construct and operate base, control and mobile stations on the interstitial channels. Additionally, frequency coordinators would be allowed to coordinate more PLMR spectrum provided they incorporate adjacent channel protection criteria in making frequency recommendations. Further, equipment manufacturers may be allowed to exploit an expanded market for radio frequency equipment, provided they comply with the FCC's technical and equipment certification rules to avoid interference.

C. Legal Basis

The proposed action is taken under Sections 1, 2, 4(i), 4(j), 301, 302, 303, 308, 309, 316, 324, and 332 of the Communications Act of 1934, as amended, 47 U.S.C. 151, 152, 154(i), 154(j), 301, 302a, 303, 308, 309, 316, 324, and 332.

D. Description and Estimate of the Number of Small Entities to Which the Proposed Rules Will Apply

The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the SBA.

Private Land Mobile Radio Licensees. PLMR systems serve an essential role in a range of industrial, business, land transportation, and public safety activities. These radios are used by companies of all sizes operating in all U.S. business categories, and are often used in support of the licensee's primary (non-telecommunications) business operations. For the purpose of determining whether a licensee of a PLMR system is a small business as defined by the SBA, we use the broad census category, Wireless Telecommunications Carriers (except Satellite), which comprises establishments engaged in operating and maintaining switching and transmission facilities to provide communications via the airwaves. Establishments in this industry have spectrum licenses and provide services using that spectrum, such as cellular phone services, paging services, wireless Internet access, and wireless video services. The appropriate size standard under SBA rules is for the category Wireless Telecommunications Carriers. The size standard for that category is that a business is small if it has 1,500 or fewer employees. For this category, census data for 2007 show that there were 11,163 establishments that operated for the entire year. Of this total, 10,791 establishments had employment of 999 or fewer employees and 372 had employment of 1000 employees or more. Thus under this category and the associated small business size standard, the Commission estimates that the majority of wireless telecommunications carriers (except satellite) are small entities.

Small Businesses, Small Organizations, and Small Governmental Jurisdictions. Our action may, over time, affect small entities that are not easily categorized at present. We therefore describe here, at the outset, three comprehensive, statutory small entity size standards that encompass entities that could be directly affected by the proposals under consideration. As of 2009, small businesses represented 99.9% of the 27.5 million businesses in the United States, according to the SBA. Additionally, a “small organization” is generally “any not-for-profit enterprise which is independently owned and operated and is not dominant in its field.” Nationwide, as of 2007, there were approximately 1,621,315 small organizations. Finally, the term “small governmental jurisdiction” is defined generally as “governments of cities, counties, towns, townships, villages, school districts, or special districts, with a population of less than fifty thousand.” Census Bureau data for 2007 indicate that there were 89,527 governmental jurisdictions in the United States. We estimate that, of this total, as many as 88,761 entities may qualify as “small governmental jurisdictions.” Thus, we estimate that most governmental jurisdictions are small.

Radio and Television Broadcasting and Wireless Communications Equipment Manufacturing. The Census Bureau defines this category as follows: “This industry comprises establishments primarily engaged in manufacturing radio and television broadcast and wireless communications equipment. Examples of products made by these establishments are: Transmitting and receiving antennas, cable television equipment, GPS equipment, pagers, cellular phones, mobile communications equipment, and radio and television studio and broadcasting equipment.” The SBA has developed a small business size standard for Radio and Television Broadcasting and Wireless Communications Equipment Manufacturing, which is: All such firms having 750 or fewer employees. According to Census Bureau data for 2007, there were a total of 939 establishments in this category that operated for part or all of the entire year. Of this total, 912 had less than 500 employees and 17 had more than 1000 employees. Thus, under that size standard, the majority of firms can be considered small.

Frequency Coordinators. Neither the Commission nor the SBA have developed a definition of small entities specifically applicable to frequency coordinators. Therefore, the Commission concluded that the closest applicable definition under SBA rules is Business Associations (NAICS Code 813910). The SBA defines a small business association as an entity with $7 million or less in annual receipts. There are 18 entities certified to perform frequency coordination functions under Part 90 of our Rules. However, the Commission is unable to ascertain how many of these frequency coordinators are classified as small entities under the SBA definition. The Census Bureau indicates that 97% of business associations have annual receipts of $7 million or less and would be classified as small entities. The Census Bureau category is very broad, and does not include specific figures for firms that are engaged in frequency coordination. Therefore, for the purposes of this IRFA, the Commission estimates that almost all of the 18 FCC-certified frequency coordinators are small as defined by the SBA.

E. Description of Projected Reporting, Recordkeeping, and Other Compliance Requirements

The proposed rules provide regulatory flexibility to all 800 MHz PLMR licensees, including small governmental jurisdictions and small businesses. The proposed rules would minimize the filing burden and paperwork burden for all PLMR licensees seeking to license 12.5 kHz full power channels, for which applicants would under the current rules have to request a waiver. PLMR entities seeking licenses in the 800 MHz band are required to obtain coordination from certain frequency coordinators as specified in Sections 90.20 and 90.35 of the Commission's rules, 47 CFR 90.20 and 90.35. OMB has already approved the information collection requirements, including frequency coordination requirement associated with Form 601. See ICR Reference Number: 201311-3060-018, OMB Control No. 3060-0798. We do not propose any substantive or material changes to the wording of this existing information collection. Instead, if we amend to rules to allow PLMR licensees to license the proposed interstitial channels, then the number of respondents subject to the existing information collections would increase. Frequency coordinators have been certified by the Commission to recommend the most appropriate frequencies for applicants in the designated Part 90 radio services. Section 90.175 requires coordinators to provide a statement recommending the most appropriate frequency. In the below 512 MHz band, frequency coordinators are required to analyze adjacent channel interference. However, in the 800 MHz band, coordinators generally consider co-channel mileage separation requirements. If we amended the rules to permit frequency coordination of interstitial channels then the existing frequency coordination process for the 800 MHz PLMR spectrum would be modified. We anticipate that the burden and cost levels would be comparable to the existing contour overlap analysis in the below 512 MHz band, which OMB approved. See ICR Reference No: 201311-3060-015, OMB Control No: 3060-0984.

Under the proposed contour overlap approach, PLMR applicants may be allowed to provide letters of concurrence indicating that the applicant and each adjacent-channel incumbent agree to accept any interference resulting from the reduced adjacent channel separation between systems, an approach that would be similar to the consensual short-spacing approach. Currently PLMR applicants may provide letters of concurrence indicating that the applicant and each co-channel licensee agree to accept any interference resulting from the reduced co-channel separation between systems (i.e. 47 CFR 90.621(e)(5)). We envision that the estimated burden and cost levels would be comparable to the existing consensual short spacing rules. See ICR Reference No: 201205-3060-017, OMB Control No: 3060-0441.

If we amend to rules to allow manufacturers to comply with Emission Mask D and 12.5 kHz/11.25 kHz channel spacing/authorized bandwidth, then manufacturers may be required to update their equipment certifications. OMB has already approved the information collection requirements associated with updating equipment authorizations. OMB has already approved the information collection requirements associated with updating equipment authorizations. The estimated burden and cost levels for equipment certification are described in more detail in the supporting statement for ICR Reference No: 201404-3060-029, OMB Control No. 3060-0057. We do not propose any substantive or material changes to the wording of this existing information collection. Instead, if we amend to rules to allow manufacturers to comply with Emission Mask D and 12.5 kHz/11.25 kHz channel spacing/authorized bandwidth, then the number of respondents subject to the existing information collections may increase.

The Commission believes that applying the proposed information collections will promote spectrum efficiency, development of new technologies and mitigate adjacent channel interference. The Commission does not believe that the costs and/or administrative burdens associated with the proposed rules will unduly burden small entities. The rule revisions the Commission proposes should benefit small governmental jurisdictions, small businesses, small equipment manufacturers and small business associations by giving them more flexibility, and more options for gaining access to PLMR spectrum. As noted above, the FCC invites comment on these new or modified information collection requirements.

F. Steps Taken To Minimize Significant Economic Impact on Small Entities, and Significant Alternatives Considered

The RFA requires an agency to describe any significant, specifically small business, alternatives that it has considered in reaching its proposed approach, which may include the following four alternatives (among others): (1) The establishment of differing compliance or reporting requirements or timetables that take into account the resources available to small entities; (2) the clarification, consolidation, or simplification of compliance and reporting requirements under the rule for small entities; (3) the use of performance rather than design standards; and (4) an exemption from coverage of the rule, or any part thereof for small entities.¹

¹ 5 U.S.C. 603(c)(1)-(4).

The NPRM seeks comment on a proposal to make more intensive use of the 800 MHz Mid-Band. Denying the proposal would preclude PLMR licensees and applicants, including small governmental jurisdictions and small businesses from making more effective use of the band and thus potentially increase costs on those entities. The NPRM is deregulatory in nature and seeks comment on appropriate interference and eligibility requirements on all affected entities, including small entities. In recognition of the resources available to small entities, and in the interest of simplified compliance obligations, the NPRM does not mandate a transition to 12.5 kHz technology. Specifically, the NPRM proposes to allow 800 MHz PLMR licensees the flexibility to increase capacity by reducing channel size and bandwidth as long as they meet interference protection criteria and eligibility requirements. While we strive to provide flexibility to small entities, because we believe that protection of public safety licensees and PLMR entities is essential and in the public interest, we do not propose any exemption for small entities. We invite comment on less burdensome alternatives.

G. Federal Rules That May Duplicate, Overlap, or Conflict With the Proposed Rules

None.

Ordering Clauses

Accordingly, it is ordered, pursuant to Sections 1, 2, 4(i), 4(j), 301, 302, 303, 308, 309, 316, 324, and 332 of the Communications Act of 1934, as amended, 47 U.S.C. 151, 152, 154(i), 154(j), 301, 302a, 303, 308, 309, 324, 316, and 332, that this Notice of Proposed Rulemaking is hereby adopted.

It is further ordered that pursuant to applicable procedures set forth in §§ 1.415 and 1.419 of the Commission's rules, 47 CFR 1.415 and 1.419, interested parties may file comments on the NPRM on or before May 11, 2015, and reply comments on or before May 26, 2015.

It is further ordered that the Commission's Consumer and Governmental Affairs Bureau, Reference Information Center, shall send a copy of this Notice of Proposed Rulemaking, including the Initial Regulatory Flexibility Analysis, to the Chief Counsel for Advocacy of the Small Business Administration.

List of Subjects in 47 CFR Part 90

Radio.

Federal Communications Commission.
Marlene H. Dortch,
Secretary.

Proposed Rules

For the reasons discussed in the preamble, the Federal Communications Commission proposes to amend 47 CFR part 90 as follows:

PART 90—PRIVATE LAND MOBILE RADIO SERVICE

1. The authority citation for part 90 continues to read as follows:

Authority: Sections 4(i), 11, 303(g), 303(r), and 332(c)(7) of the Communications Act of 1934, as amended, 47 U.S.C. 154(i), 161, 303(g), 303(r), and 332(c)(7), and Title VI of the Middle Class Tax Relief and Job Creation Act of 2012, Pub. L. 112-96, 126 Stat. 156.

2. Amend § 90.209 by adding an entry for “809-817/854-869” in numerical order and revising footnote 6 to the table in paragraph (b)(5) and adding paragraph (b)(8) to read as follows:

§ 90.209 Bandwidth limitations.

* * * * *

(b) * * *

(5) * * *

Standard Channel Spacing/Bandwidth
Frequency band (MHz) | Channel spacing (kHz) | Authorized bandwidth (kHz)
* * * * *
809-817/854-869 | 25/12.5 | ⁶ 20/11.25
* * * * *
* * * * *
⁶ Operations using equipment designed to operate with a 25 kHz channel bandwidth may be authorized up to a 22 kHz bandwidth if the equipment meets the Adjacent Channel Power limits of § 90.221. Operations using equipment designed to operate with a 12.5 kHz channel bandwidth will be authorized a 11.25 kHz bandwidth.

* * * * *

(8) Private Land Mobile Radio (PLMR) site-based licensees in frequencies 809-817/854-862 MHz may reduce the standard channel spacing and authorized bandwidth listed in paragraph (b)(5) of this section in any National Public Safety Planning Advisory Committee Region upon issuance of Public Notice announcing the availability of interstitial channels. Licensees authorized to reduce the standard channel spacing and authorized bandwidth under this paragraph must meet the applicable co-channel and adjacent channel interference criteria and eligibility requirements prior to initiating service in the 809-817/854-862 MHz.

3. Amend § 90.210 by revising the introductory paragraph to revise footnote 5 to the table to read as follows:

§ 90.210 Emission masks.

* * * * *

Applicable Emission Masks
Frequency band (MHz) | Mask for equipment with audio low pass filter | Mask for equipment without audio low passfilter
* * * * * * *
* * * * * * *
⁵ Equipment designed to operate with a 25 kHz channel bandwidth may alternatively meet the Adjacent Channel Power limits of § 90.221. Equipment designed to operate with a 12.5 kHz channel bandwidth must meet the requirements of Emission Mask D.

* * * * *

4. Amend the introductory paragraph of § 90.613 by adding the following entries in alpha-numeric order in the table titled “Table of 806-824/851-869 MHz Channel Designations” to read as follows:

§ 90.613 Frequencies available.

* * * * *

Table of 806-824/851-869 MHz Channel Designations
Channel No. | Base frequency (MHz)
* * * * *
231a | .0250
* * * * *
232a | .0500
* * * * *
233a | .0750
* * * * *
234a | .1000
* * * * *
235a | .1250
* * * * *
236a | .1500
* * * * *
237a | .1750
* * * * *
238a | .2000
* * * * *
239a | .2250
* * * * *
240a | .2500
* * * * *
241a | .2750
* * * * *
242a | .3000
* * * * *
243a | .3250
* * * * *
244a | .3500
* * * * *
245a | .3750
* * * * *
246a | .4000
* * * * *
247a | .4250
* * * * *
248a | .4500
* * * * *
249a | .4750
* * * * *
250a | .5000
* * * * *
251a | .5250
* * * * *
252a | .5500
* * * * *
253a | .5750
* * * * *
254a | .6000
* * * * *
255a | .6250
* * * * *
256a | .6500
* * * * *
257a | .6750
* * * * *
258a | .7000
* * * * *
259a | .7250
* * * * *
260a | .7500
* * * * *
261a | .7750
* * * * *
262a | .8000
* * * * *
263a | .8250
* * * * *
264a | .8500
* * * * *
265a | .8750
* * * * *
266a | .9000
* * * * *
267a | .9250
* * * * *
268a | .9500
* * * * *
269a | .9750
* * * * *
270a | 855.0000
* * * * | .0125
271a | .0250
* * * * *
272a | .0500
* * * * *
273a | .0750
* * * * *
274a | .1000
* * * * *
275a | .1250
* * * * *
276a | .1500
* * * * *
277a | .1750
* * * * *
278a | .2000
* * * * *
279a | .2250
* * * * *
280a | .2500
* * * * *
281a | .2750
* * * * *
282a | .3000
* * * * *
283a | .3250
* * * * *
284a | .3500
* * * * *
285a | .3750
* * * * *
286a | .4000
* * * * *
287a | .4250
* * * * *
288a | .4500
* * * * *
289a | .4750
* * * * *
290a | .5000
* * * * *
291a | .5250
* * * * *
292a | .5500
* * * * *
293a | .5750
* * * * *
294a | .6000
* * * * *
295a | .6250
* * * * *
296a | .6500
* * * * *
297a | .6750
* * * * *
298a | .7000
* * * * *
299a | .7250
* * * * *
300a | .7500
* * * * *
301a | .7750
* * * * *
302a | .8000
* * * * *
303a | .8250
* * * * *
304a | .8500
* * * * *
305a | .8750
* * * * *
306a | .9000
* * * * *
307a | .9250
* * * * *
308a | .9500
* * * * *
309a | .9750
* * * * *
310a | 856.0000
* * * * | .0125
311a | .0250
* * * * *
312a | .0500
* * * * *
313a | .0750
* * * * *
314a | .1000
* * * * *
315a | .1250
* * * * *
316a | .1500
* * * * *
317a | .1750
* * * * *
318a | .2000
* * * * *
319a | .2250
* * * * *
320a | .2500
* * * * *
321a | .2750
* * * * *
322a | .3000
* * * * *
323a | .3250
* * * * *
324a | .3500
* * * * *
325a | .3750
* * * * *
326a | .4000
* * * * *
327a | .4250
* * * * *
328a | .4500
* * * * *
329a | .4750
* * * * *
330a | .5000
* * * * *
331a | .5250
* * * * *
332a | .5500
* * * * *
333a | .5750
* * * * *
334a | .6000
* * * * *
335a | .6250
* * * * *
336a | .6500
* * * * *
337a | .6750
* * * * *
338a | .7000
* * * * *
339a | .7250
* * * * *
340a | .7500
* * * * *
341a | .7750
* * * * *
342a | .8000
* * * * *
343a | .8250
* * * * *
344a | .8500
* * * * *
345a | .8750
* * * * *
346a | .9000
* * * * *
347a | .9250
* * * * *
348a | .9500
* * * * *
349a | .9750
* * * * *
350a | 857.0000
* * * * | .01250
351a | .02500
* * * * *
352a | .0500
* * * * *
353a | .0750
* * * * *
354a | .1000
* * * * *
355a | .1250
* * * * *
356a | .1500
* * * * *
357a | .1750
* * * * *
358a | .2000
* * * * *
359a | .2250
* * * * *
360a | .2500
* * * * *
361a | .2750
* * * * *
362a | .3000
* * * * *
363a | .3250
* * * * *
364a | .3500
* * * * *
365a | .3750
* * * * *
366a | .4000
* * * * *
367a | .4250
* * * * *
368a | .4500
* * * * *
369a | .4750
* * * * *
370a | .5000
* * * * *
371a | .5250
* * * * *
372a | .5500
* * * * *
373a | .5750
* * * * *
374a | .6000
* * * * *
375a | .6250
* * * * *
376a | .6500
* * * * *
377a | .6750
* * * * *
378a | .7000
* * * * *
379a | .7250
* * * * *
380a | .7500
* * * * *
381a | .7750
* * * * *
382a | .8000
* * * * *
383a | .8250
* * * * *
384a | .8500
* * * * *
385a | .8750
* * * * *
386a | .9000
* * * * *
387a | .9250
* * * * *
388a | .9500
* * * * *
389a | .9750
* * * * *
390a | 858.0000
* * * * | .0125
391a | .0250
* * * * *
392a | .0500
* * * * *
393a | .0750
* * * * *
394a | .1000
* * * * *
395a | .1250
* * * * *
396a | .1500
* * * * *
397a | .1750
* * * * *
398a | .2000
* * * * *
399a | .2250
* * * * *
400a | .2500
* * * * *
401a | .2750
* * * * *
402a | .3000
* * * * *
403a | .3250
* * * * *
404a | .3500
* * * * *
405a | .3750
* * * * *
406a | .4000
* * * * *
407a | .4250
* * * * *
408a | .4500
* * * * *
409a | .4750
* * * * *
410a | .5000
* * * * *
411a | .5250
* * * * *
412a | .5500
* * * * *
413a | .5750
* * * * *
414a | .6000
* * * * *
415a | .6250
* * * * *
416a | .6500
* * * * *
417a | .6750
* * * * *
418a | .7000
* * * * *
419a | .7250
* * * * *
420a | .7500
* * * * *
421a | .7750
* * * * *
422a | .8000
* * * * *
423a | .8250
* * * * *
424a | .8500
* * * * *
425a | .8750
* * * * *
426a | .9000
* * * * *
427a | .9250
* * * * *
428a | .9500
* * * * *
429a | .9750
* * * * *
430a | 859.0000
* * * * | .0125
431a | .0250
* * * * *
432a | .0500
* * * * *
433a | .0750
* * * * *
434a | .1000
* * * * *
435a | .1250
* * * * *
436a | .1500
* * * * *
437a | .1750
* * * * *
438a | .2000
* * * * *
439a | .2250
* * * * *
440a | .2500
* * * * *
441a | .2750
* * * * *
442a | .3000
* * * * *
443a | .3250
* * * * *
444a | .3500
* * * * *
445a | .3750
* * * * *
446a | .4000
* * * * *
447a | .4250
* * * * *
448a | .4500
* * * * *
449a | .4750
* * * * *
450a | .5000
* * * * *
451a | .5250
* * * * *
452a | .5500
* * * * *
453a | .5750
* * * * *
454a | .6000
* * * * *
455a | .6250
* * * * *
456a | .6500
* * * * *
457a | .6750
* * * * *
458a | .7000
* * * * *
459a | .7250
* * * * *
460a | .7500
* * * * *
461a | .7750
* * * * *
462a | .8000
* * * * *
463a | .8250
* * * * *
464a | .8500
* * * * *
465a | .8750
* * * * *
466a | .9000
* * * * *
467a | .9250
* * * * *
468a | .9500
* * * * *
469a | .9750
* * * * *
470a | 860.0000
* * * * | .0125
471a | .0250
* * * * *
472a | .0500
* * * * *
473a | .0750
* * * * *
474a | .1000
* * * * *
475a | .1250
* * * * *
476a | .1500
* * * * *
477a | .1750
* * * * *
478a | .2000
* * * * *
479a | .2250
* * * * *
480a | .2500
* * * * *
481a | .2750
* * * * *
482a | .3000
* * * * *
483a | .3250
* * * * *
484a | .3500
* * * * *
485a | .3750
* * * * *
486a | .4000
* * * * *
487a | .4250
* * * * *
488a | .4500
* * * * *
489a | .4750
* * * * *
490a | .5000
* * * * *
491a | .5250
* * * * *
492a | .5500
* * * * *
493a | .5750
* * * * *
494a | .6000
* * * * *
495a | .6250
* * * * *
496a | .6500
* * * * *
497a | .6750
* * * * *
498a | .7000
* * * * *
499a | .7250
* * * * *
500a | .7500
* * * * *
501a | .7750
* * * * *
502a | .8000
* * * * *
503a | .8250
* * * * *
504a | .8500
* * * * *
505a | .8750
* * * * *
506a | .9000
* * * * *
507a | .9250
* * * * *
508a | .9500
* * * * *
509a | .9750
* * * * *
510a | 861.0000
* * * * | .0125
511a | .0250
* * * * *
512a | .0500
* * * * *
513a | .0750
* * * * *
514a | .1000
* * * * *
515a | .1250
* * * * *
516a | .1500
* * * * *
517a | .1750
* * * * *
518a | .2000
* * * * *
519a | .2250
* * * * *
520a | .2500
* * * * *
521a | .2750
* * * * *
522a | .3000
* * * * *
523a | .3250
* * * * *
524a | .3500
* * * * *
525a | .3750
* * * * *
526a | .4000
* * * * *
527a | .4250
* * * * *
528a | .4500
* * * * *
529a | .4750
* * * * *
530a | .5000
* * * * *
531a | .5250
* * * * *
532a | .5500
* * * * *
533a | .5750
* * * * *
534a | .6000
* * * * *
535a | .6250
* * * * *
536a | .6500
* * * * *
537a | .6750
* * * * *
538a | .7000
* * * * *
539a | .7250
* * * * *
540a | .7500
* * * * *
541a | .7750
* * * * *
542a | .8000
* * * * *
543a | .8250
* * * * *
544a | .8500
* * * * *
545a | .8750
* * * * *
546a | .9000
* * * * *
547a | .9250
* * * * *
548a | .9500
* * * * *
549a | .9750
* * * * *

* * * * *

5. Amend § 90.615 by revising the introductory paragraph, the introductory text to paragraphs (a) and (b), and paragraph (c) to read as follows:

§ 90.615 Individual channels available in the General Category in 806-824/851-869 MHz band.

The General Category will consist of channels 231-260a and 511-550 at locations farther than 110 km (68.4 miles) from the U.S./Mexico border and 140 km (87 miles) from the U.S./Canadian border. All entities will be eligible for licensing on these channels except as described in paragraphs (a) and (b) of this section.

(a) In a given 800 MHz NPSPAC region, any channel in the 231-260a range which is vacated by a licensee relocating to channels 551-830 and which remains vacant after band reconfiguration will be available as follows:

* * *

(b) In a given 800 MHz NPSPAC region, any channel in the 231-260a range which is vacated by a licensee relocating to channels 511-550 and remains vacant after band reconfiguration will be available as follows:

* * *

(c) Spectrum Block F1 consists of channels 236-260a.

6. Amend § 90.617 by revising Table 1 in the introductory text of paragraph (a), Table 1A in paragraph (a)(2), and Table 1B in paragraph (a)(3); Table 2 in the introductory text of paragraph (b), Table 2A in paragraph (b)(1), and Table 2B in paragraph (b)(2); Table 4B in the introductory text of paragraph (d), Table 4C in paragraph (d)(1), and Table 4D in paragraph (d)(2) to read as follows:

§ 90.617 Frequencies in the 809.750-824/854.750-869 MHz, and 896-901/935-940 MHz bands available for trunked, conventional or cellular system use in non-border areas.

* * * * *

(a) * * *

Table 1—Public Safety Pool 806-816/851-861 MHz Band Channels
[140 channels]
Group No. | Channel Nos.
269 | 269-289-311-399-439
269a | 269a-289a-311a-399a-439a
270 | 270-290-312-400-440
270a | 270a-290a-312a-400a-440a
279 | 279-299-319-339-359
279a | 279a-299a-319a-339a-359a
280 | 280-300-320-340-360
280a | 280a-300a-320a-340a-360a
309 | 309-329-349-369-389
309a | 309a-329a-349a-369a-389a
310 | 310-330-350-370-390
310a | 310a-330a-350a-370a-390a
313 | 313-353-393-441-461
313a | 313a-353a-393a-441a-461a
314 | 314-354-394-448-468
314a | 314a-354a-394a-448a-468a
321 | 321-341-361-381-419
321a | 321a-341a-361a-381a-419a
328 | 328-348-368-388-420
328a | 328a-348a-368a-388a-420a
351 | 351-379-409-429-449
351a | 351a-379a-409a-429a-449a
352 | 352-380-410-430-450
352a | 352a-380a-410a-430a-450a
Single Channels | 391, 391a, 392, 392a, 401, 401a, 408, 408a, 421, 421a, 428, 428a, 459, 459a, 460, 460a, 469, 469a, 470, 470a

* * * * *

(2) * * *

Table 1A—Public Safety Pool 806-816/851-861 MHz Band Channels for Counties in Southeastern U.S.
[140 channels]
Group No. | Channel Nos.
261 | 261-313-324-335-353
261a | 261a-313a-324a-335a-353a
262 | 262-314-325-336-354
262a | 262a-314a-325a-336a-354a
265 | 265-285-315-333-351
265a | 265a-285a-315a-333a-351a
266 | 266-286-316-334-352
266a | 266a-286a-316a-334a-352a
269 | 269-289-311-322-357
269a | 269a-289a-311a-322a-357a
270 | 270-290-312-323-355
270a | 270a-290a-312a-323a-355a
271 | 271-328-348-358-368
271a | 271a-328a-348a-358a-368a
279 | 279-299-317-339-359
279a | 279a-299a-317a-339a-359a
280 | 280-300-318-340-360
280a | 280a-300a-318a-340a-360a
309 | 309-319-329-349-369
309a | 309a-319a-329a-349a-369a
310 | 310-320-330-350-370
310a | 310a-320a-330a-350a-370a
321 | 321-331-341-361-372
321a | 321a-331a-341a-361a-372a
Single Channels | 326, 326a, 327, 327a, 332, 332a, 337, 337a, 338, 338a, 342, 342a, 343, 343a, 344, 344a, 345, 345a, 356, 356a

* * * * *

(3) * * *

Table 1B—Public Safety Pool 806-816/851-861 MHz Band Channels for Atlanta, GA
[140 channels]
Group No. | Channel Nos.
261 | 261-313-324-335-353
261a | 261a-313a-324a-335a-353a
262 | 262-314-325-336-354
262a | 262a-314a-325a-336a-354a
269 | 269-289-311-322-357
269a | 269a-289a-311a-322a-357a
270 | 270-290-312-323-355
270a | 270a-290a-312a-323a-355a
279 | 279-299-319-339-359
279a | 279a-299a-319a-339a-359a
280 | 280-300-320-340-360
280a | 280a-300a-320a-340a-360a
285 | 285-315-333-351-379
285a | 285a-315a-333a-351a-379a
286 | 286-316-334-352-380
286a | 286a-316a-334a-352a-380a
309 | 309-329-349-369-389
309a | 309a-329a-349a-369a-389a
310 | 310-330-350-370-390
310a | 310a-330a-350a-370a-390a
321 | 321-331-341-361-381
321a | 321a-331a-341a-361a-381a
328 | 328-348-358-368-388
328a | 328a-348a-358a-368a-388a
Single Channels | 317, 317a, 318, 318a, 326, 326a, 327, 327a, 332, 332a, 337, 337a, 338, 338a, 356, 356a, 371, 371a, 372, 372a

* * * * *

(b) * * *

Table 2—Business/Industrial/Land Transportation Pool 806-816/851-861 MHz Band Channels
[200 channels]
Group No. | Channel Nos.
261 | 261-313-324-335-353
261a | 261a-313a-324a-335a-353a
262 | 262-314-325-336-354
262a | 262a-314a-325a-336a-354a
269 | 269-289-311-322-357
269a | 269a-289a-311a-322a-357a
270 | 270-290-312-323-355
270a | 270a-290a-312a-323a-355a
279 | 279-299-319-339-359
279a | 279a-299a-319a-339a-359a
280 | 280-300-320-340-360
280a | 280a-300a-320a-340a-360a
285 | 285-315-333-351-379
285a | 285a-315a-333a-351a-379a
286 | 286-316-334-352-380
286a | 286a-316a-334a-352a-380a
309 | 309-329-349-369-389
309a | 309a-329a-349a-369a-389a
310 | 310-330-350-370-390
310a | 310a-330a-350a-370a-390a
321 | 321-331-341-361-381
321a | 321a-331a-341a-361a-381a
328 | 328-348-358-368-388
328a | 328a-348a-358a-368a-388a
Single Channels | 317, 317a, 318, 318a, 326, 326a, 327, 327a, 332, 332a, 337, 337a, 338, 338a, 356, 356a, 371, 371a, 372, 372a

* * * * *

(1) * * *

Table 2A—Business/Industrial/Land Transportation Pool 806-816/851-861 MHz Band for Channels in Southeastern U.S.
[138 channels]
| Channel Nos.
Single Channels | 263, 263a, 264, 264a, 267, 267a, 268, 268a, 272, 272a, 273, 273a, 274, 274a, 275, 275a, 276, 276a, 277, 277a, 278, 278a, 281, 281a, 282, 282a, 283, 283a, 284, 284a, 287, 287a, 288, 288a, 291, 291a, 292, 292a, 293, 293a, 294, 294a, 295, 295a, 296, 296a, 297, 297a, 298, 298a, 301, 301a, 302, 302a, 303, 303a, 304, 304a, 305, 305a, 306, 306a, 307, 307a, 308, 308a, 346, 346a, 347, 347a, 362, 362a, 363, 363a, 364, 364a, 365, 365a, 366, 366a, 367, 367a, 379, 379a, 380, 380a, 381, 381a, 382, 382a, 383, 383a, 384, 384a, 385, 385a, 386, 386a, 387, 387a, 388, 388a, 389, 389a, 390, 390a, 391, 391a, 392, 392a, 393, 393a, 394, 394a, 399, 399a, 400, 400a, 401, 401a, 402, 402a, 403, 403a, 404, 404a, 405, 405a, 406, 406a, 407, 407a, 408, 408a, 409, 409a, 410, 410a

* * * * *

(2) * * *

Table 2B—Business/Industrial/Land Transportation Pool 806-816/851-861 MHz Band for Channels in Atlanta, GA
[138 channels]
| Channel Nos.
Single Channels | 263, 263a, 264, 264a, 265, 265a, 266, 266a, 267, 267a, 268, 268a, 271, 271a, 272, 272a, 273, 273a, 274, 274a, 275, 275a, 276, 276a, 277, 277a, 278, 278a, 281, 281a, 282, 282a, 283, 283a, 284, 284a, 287, 287a, 288, 288a, 291, 291a, 292, 292a, 293, 293a, 294, 294a, 295, 295a, 296, 296a, 297, 297a, 298, 298a, 301, 301a, 302, 302a, 303, 303a, 304, 304a, 305, 305a, 306, 306a, 307, 307a, 308, 308a, 342, 342a, 343, 343a, 344, 344a, 345, 345a, 346, 346a, 347, 347a, 362, 362a, 363, 363a, 364, 364a, 365, 365a, 366, 366a, 367, 367a, 382, 382a, 383, 383a, 384, 384a, 385, 385a, 386, 386a, 387, 387a, 391, 391a, 392, 392a, 393, 393a, 394, 394a, 399, 399a, 400, 400a, 401, 401a, 402, 402a, 403, 403a, 404, 404a, 405, 405a, 406, 406a, 407, 407a, 409, 409a, 410, 410a

* * * * *

(d) * * *

Table 4B—SMR Category 806-816/851-861 MHz Band Channels, Available After January 21, 2005, for Site-Based Licensing
[160 channels]
Group No. | Channel Nos.
315 | 315-355-395-435-475
315a | 315a-355a-395a-435a-475a
316 | 316-356-396-436-476
316a | 316a-356a-396a-436a-476a
317 | 317-357-397-437-477
317a | 317a-357a-397a-437a-477a
318 | 318-358-398-438-478
318a | 318a-358a-398a-438a-478a
331 | 331-371-411-451-491
331a | 331a-371a-411a-451a-491a
332 | 332-372-412-452-492
332a | 332a-372a-412a-452a-492a
333 | 333-373-413-453-493
333a | 333a-373a-413a-453a-493a
334 | 334-374-414-454-494
334a | 334a-374a-414a-454a-494a
335 | 335-375-415-455-495
335a | 335a-375a-415a-455a-495a
336 | 336-376-416-456-496
336a | 336a-376a-416a-456a-496a
337 | 337-377-417-457-497
337a | 337a-377a-417a-457a-497a
338 | 338-378-418-458-498
338a | 338a-378a-418a-458a-498a
Single Channels | 431, 431a, 432, 432a, 433, 433a, 434, 434a, 471, 471a, 472, 472a, 473, 473a, 474, 474a, 479, 479a, 480, 480a, 481, 481a, 488, 488a, 489, 489a, 490, 490a, 499, 499a, 500, 500a, 501, 501a, 508, 508a, 509, 509a, 510, 510a

* * * * *

(1) * * *

Table 4C—SMR Category 806-816/851-861 MHz Band Channels Available for Site-Based Licensing in Southeastern U.S. After January 21, 2005
[22 channels]
| Channel Nos.
Single Channels | 371, 371a, 373, 373a, 374, 374a, 375, 375a, 376, 376a, 377, 377a, 378, 378a, 395, 395a, 396, 396a, 397, 397a, 398, 398a

* * * * *

(2) * * *

Table 4D—SMR Category 806-816/851-861 MHz Band Channels Available for Site-Based Licensing in Atlanta, GA after January 21, 2005
[22 channels]
| Channel Nos.
Single Channels | 373, 373a, 374, 374a, 375, 375a, 376, 376a, 377, 377a, 378, 378a, 395, 395a, 396, 396a, 397, 397a, 398, 398a, 408, 408a

* * * * *

7. Amend § 90.619 by:

a. Revising the entries for “Regions 1, 4, 5, and 6,” “Region 3,” “Regions 7A and 8,” and “Region 7B” in Table C6 in paragraph (c)(6);

b. Revising the entries for “Region 3” and “Regions 7A and 8” in Table C7 in paragraph (c)(7);

c. Revising the entry for “Regions 7A, 7B, and 8” in Table C8 in paragraph (c)(8); and

d. Revising the entries for “Regions 7A and 8” and “Region 7B” in Table C9 in paragraph (c)(9).

The revisions read as follows:

§ 90.619 Operations within the U.S./Mexico and U.S./Canada border areas.

* * * * *

(c) * * *

(6) * * *

Table C6—Public Safety Pool 806-816/851-861 MHz Band Channels in the Canada Border Regions
Canada border region | Channel Nos. | Total
Regions 1, 4, 5, and 6 | 231-260a | 60 Channels.
* * * * * * *
Region 3 | 231-320a, 501-508a | 180 Channels.
Regions 7A and 8 | 269, 269a, 289, 289a, 311, 311a, 399, 399a, 439, 439a, 270, 270a, 290, 290a, 312, 312a, 400, 400a, 440, 440a, 279, 279a, 299, 299a, 319, 319a, 339, 339a, 359, 359a, 280, 280a, 300, 300a, 320, 320a, 340, 340a, 360, 360a, 309, 309a, 329, 329a, 349, 349a, 369, 369a, 389, 389a, 310, 310a, 330, 330a, 350, 350a, 370, 370a, 390, 390a, 313, 313a, 353, 353a, 393, 393a, 441, 441a, 461, 461a, 314, 314a, 354, 354a, 394, 394a, 448, 448a, 468, 468a, 321, 321a, 341, 341a, 361, 361a, 381, 381a, 419, 419a, 328, 328a, 348, 348a, 368, 368a, 388, 388a, 420, 420a, 351, 351a, 379, 379a, 409, 409a, 429, 429a, 449, 449a, 352, 352a, 380, 380a, 410, 410a, 430, 430a, 450, 450a, 391, 391a, 392, 392a, 401, 401a, 408, 408a, 421, 421a, 428, 428a, 459, 459a, 460, 460a, 469, 469a, 470, 470a | 140 Channels.
Region 7B | 231-260a, 269, 269a, 289, 289a, 311, 311a, 399, 399a, 439, 439a, 270, 270a, 290, 290a, 312, 312a, 400, 400a, 440, 440a, 279, 279a, 299, 299a, 319, 319a, 339, 339a, 359, 359a, 280, 280a, 300, 300a, 320, 320a, 340, 340a, 360, 360a, 309, 309a, 329, 329a, 349, 349a, 369, 369a, 389, 389a, 310, 310a, 330, 330a, 350, 350a, 370, 370a, 390, 390a, 313, 313a, 353, 353a, 393, 393a, 441, 441a, 461, 461a, 314, 314a, 354, 354a, 394, 394a, 448, 448a, 468, 468a, 315, 315a, 355, 355a, 395, 395a, 435, 435a, 475, 475a, 316, 316a, 356, 356a, 396, 396a, 436, 436a, 476, 476a, 317, 317a, 357, 357a, 397, 397a, 437, 437a, 477, 477a, 318, 318a, 358, 358a, 398, 398a, 438, 438a, 478, 478a, 321, 321a, 341, 341a, 361, 361a, 381, 381a, 419, 419a, 328, 328a, 348, 348a, 368, 368a, 388, 388a, 420, 420a, 331, 331a, 371, 371a, 411, 411a, 451, 451a, 491, 491a, 332, 332a, 372, 372a, 412, 412a, 452, 452a, 492, 492a, 333, 333a, 373, 373a, 413, 413a, 453, 453a, 493, 493a, 334, 334a, 374, 374a, 414, 414a, 454, 454a, 494, 494a, 335, 335a, 375, 375a, 415, 415a, 455, 455a, 495, 495a, 336, 336a, 376, 376a, 416, 416a, 456, 456a, 496, 496a, 337, 337a, 377, 377a, 417, 417a, 457, 457a, 497, 497a, 338, 338a, 378, 378a, 418, 418a, 458, 458a, 498, 498a, 351, 351a, 379, 379a, 409, 409a, 429, 429a, 449, 449a, 352, 352a, 380, 380a, 410, 410a, 430, 430a, 450, 450a, 391, 391a, 392, 392a, 401, 401a, 408, 408a, 421, 421a, 428, 428a, 459, 459a, 460, 460a, 469, 469a, 470, 470a, 431, 431a, 432, 432a, 433, 433a, 434, 434a, 471, 471a, 472, 472a, 473, 473a, 474, 474a, 479, 479a, 480, 480a | 340 Channels.

* * * * *

(7) * * *

Table C7—General Category 806-821/851-866 MHz Band Channels in the Canada Border Regions
Canada border region | General category channels where 800 MHz high density cellular systems are prohibited | General category channels where 800 MHz high density cellular systems are permitted
* * * * * * *
Region 3 | 321-500a | 509-710.
Regions 7A and 8 | 231-260a, 511-550 | None.
* * * * * * *

* * * * *

(8) * * *

Table C8—Business/Industrial/Land Transportation Pool 806-816/851-861 MHz Band Channels in the Canada Border Regions
Canada border region | Channel Nos. | Total
* * * * * * *
Regions 7A, 7B, and 8 | 261, 261a, 271, 271a, 281, 281a, 291, 291a, 301, 301a, 262, 262a, 272, 272a, 282, 282a, 292, 292a, 302, 302a, 263, 263a, 273, 273a, 283, 283a, 293, 293a, 303, 303a, 264, 264a, 274, 274a, 284, 284a, 294, 294a, 304, 304a, 265, 265a, 275, 275a, 285, 285a, 295, 295a, 305, 305a, 266, 266a, 276, 276a, 286, 286a, 296, 296a, 306, 306a, 267, 267a, 277, 277a, 287, 287a, 297, 297a, 307, 307a, 268, 268a, 278, 278a, 288, 288a, 298, 298a, 308, 308a, 322, 322a, 362, 362a, 402, 402a, 442, 442a, 482, 482a, 323, 323a, 363, 363a, 403, 403a, 443, 443a, 483, 483a, 324, 324a, 364, 364a, 404, 404a, 444, 444a, 484, 484a, 325, 325a, 365, 365a, 405, 405a, 445, 445a, 485, 485a, 326, 326a, 366, 366a, 406, 406a, 446, 446a, 486, 486a, 327, 327a, 367, 367a, 407, 407a, 447, 447a, 487, 487a, 342, 342a, 382, 382a, 422, 422a, 462, 462a, 502, 502a, 343, 343a, 383, 383a, 423, 423a, 463, 463a, 503, 503a, 344, 344a, 384, 384a, 424, 424a, 464, 464a, 504, 504a, 345, 345a, 385, 385a, 425, 425a, 465, 465a, 505, 505a, 346, 346a, 386, 386a, 426, 426a, 466, 466a, 506, 506a, 347, 347a, 387, 387a, 427, 427a, 467, 467a, 507, 507a | 200 Channels

* * * * *

(9) * * *

Table C9—SMR Category 806-816/851-861 MHz Channels Available for Site-Based Licensing in the Canada Border Regions
Canada border region | Channel Nos. | Total
* * * * * * *
Regions 7A and 8 | 315, 315a, 355, 355a, 395, 395a, 435, 435a, 475, 475a, 316, 316a, 356, 356a, 396, 396a, 436, 436a, 476, 476a, 317, 317a, 357, 357a, 397, 397a, 437, 437a, 477, 477a, 318, 318a, 358, 358a, 398, 398a, 438, 438a, 478, 478a, 331, 331a, 371, 371a, 411, 411a, 451, 451a, 491, 491a, 332, 332a, 372, 372a, 412, 412a, 452, 452a, 492, 492a, 333, 333a, 373, 373a, 413, 413a, 453, 453a, 493, 493a, 334, 334a, 374, 374a, 414, 414a, 454, 454a, 494, 494a, 335, 335a, 375, 375a, 415, 415a, 455, 455a, 495, 495a, 336, 336a, 376, 376a, 416, 416a, 456, 456a, 496, 496a, 337, 337a, 377, 377a, 417, 417a, 457, 457a, 497, 497a, 338, 338a, 378, 378a, 418, 418a, 458, 458a, 498, 498a, 431, 431a, 432, 432a, 433, 433a, 434, 434a, 471, 471a, 472, 472a, 473, 473a, 474, 474a, 479, 479a, 480, 480a, 481, 481a, 488, 488a, 489, 489a, 490, 490a, 499, 499a, 500, 500a, 501, 501a, 508, 508a, 509, 509a, 510, 510a | 160 Channels.
Region 7B | * * * 481a, 488a, 489a, 490a, 499a, 500a, 501a, 508a, 509a, 510a | 20 Channels.

[FR Doc. 2015-06069 Filed 3-24-15; 8:45 am]

BILLING CODE 6712-01-P